DEPARTMENT OF HOMELAND SECURITY

Office of the Secretary

[Docket No. DHS-2023-0032]

DHS Data Privacy and Integrity Advisory Committee

AGENCY: Privacy Office, Department of Homeland Security (DHS).

ACTION: Committee management; notice of Federal advisory committee meeting.

SUMMARY: The DHS Data Privacy and Integrity Advisory Committee will meet on Tuesday, November 7, 2023, via virtual conference. The meeting will be open to the public.

DATES: The DHS Data Privacy and Integrity Advisory Committee will meet on Tuesday, November 7, 2023, from 9 a.m. to 11 a.m. E.D.T. The virtual meeting may end early if the Committee has completed its business.

ADDRESSES: The meeting will be held via a virtual forum (conference information will be posted on the Privacy Office website in advance of the meeting at www.dhs.gov/privacy-advisory-committee, or call (202) 343-1717, to obtain the information). The Data Privacy and Integrity Advisory Committee is committed to ensuring all participants have equal access regardless of disability status. If you require reasonable accommodation due to a disability to fully participate, please email Ms. Sandra L. Taylor at sandra.taylor@hq.dhs.gov or call (202) 343-1717 as soon as possible.

To facilitate public participation, we invite public comment on the issues to be considered by the Committee as listed in the “SUPPLEMENTARY INFORMATION” section below. A public comment period will be held during the meeting, and speakers are requested to limit their comments to three (3) minutes. If you would like to address the Committee at the meeting, please register in advance by contacting Sandra L. Taylor at the address provided below. The names and affiliations of individuals who address the Committee will be included in the public record of the meeting. The public comment period may end before the time indicated, following the last call for comments. Advanced written comments or comments for the record, including persons who wish to submit comments and who are unable to participate or speak at the meeting, should be sent to Sandra L. Taylor, Designated Federal Official, DHS Data Privacy and Integrity Advisory Committee, by October 23, 2023. All submissions must include the Docket Number (DHS-2023-0032) and may be submitted by any one of the following methods:

• Federal eRulemaking Portal: http://www.regulations.gov. Follow the instructions for submitting comments.

• E-mail: PrivacyCommittee@hq.dhs.gov. Include the Docket Number (DHS-2023-0032) in the subject line of the message.

• Mail: Sandra L. Taylor, Designated Federal Official, Data Privacy and Integrity Advisory Committee, Department of Homeland Security, 2707 Martin Luther King, Jr. Avenue SE, Mail Stop 0655, Washington, DC 20598.

Instructions: All submissions must include the words “Department of Homeland Security Data Privacy and Integrity Advisory Committee” and the Docket Number (DHS-2023-0032). Comments received will be posted without alteration at http://www.regulations.gov, including any personal information provided. You may wish to review the Privacy & Security Notice found via a link on the homepage of www.regulations.gov.

The DHS Privacy Office encourages you to register for the meeting in advance by contacting Sandra L. Taylor, Designated Federal Official, DHS Data Privacy and Integrity Advisory Committee, at PrivacyCommittee@hq.dhs.gov. Advance registration is voluntary. The Privacy Act Statement below explains how DHS uses the registration information you provide and how you may access or correct information retained by DHS, if any.

Docket: For access to the docket to read background documents or comments received by the DHS Data Privacy and Integrity Advisory Committee, go to http://www.regulations.gov and search for docket number DHS-2023-0032.

FOR FURTHER INFORMATION CONTACT: Sandra L. Taylor, Designated Federal Official, DHS Data Privacy and Integrity Advisory Committee, Department of Homeland Security, 2707 Martin Luther King, Jr. Avenue SE, Mail Stop 0655, Washington, DC 20598, by telephone (202) 343-1717, or by email to PrivacyCommittee@hq.dhs.gov.

SUPPLEMENTARY INFORMATION: Notice of this meeting is given under the Federal Advisory Committee Act (FACA). The DHS Data Privacy and Integrity Advisory Committee provides advice at the request of the Secretary of Homeland Security and the DHS Chief Privacy Officer on programmatic, policy, operational, administrative, and technological issues within DHS that relate to personally identifiable information, as well as data integrity, transparency, information sharing, and other privacy-related matters. The Committee was established by the Secretary of Homeland Security under 6 U.S.C. 451.

Proposed Agenda

The Chief Privacy Officer will provide the Committee with an update on DHS Privacy Office activities and discuss Privacy Office fiscal year 2024 priorities. In addition, the Committee will receive an overview presentation of the Privacy Office's activities over the last 20 years. Further, the Chief Privacy Officer may issue a new tasking to the Committee. If you wish to submit written comments, you may do so in advance of the meeting by submitting them to Docket Number (DHS-2023-0032) at www.regulations.gov or by forwarding them to the Committee at the locations listed under the “ADDRESSES section.” The final agenda will be posted on or before October 23, 2023, on the Committee's website at www.dhs.gov/dhs-data-privacy-and-integrity-advisory-committee-meeting-information.

Privacy Act Statement: DHS's Use of Your Information Authority: DHS requests that you voluntarily submit information under the following authorities: The Federal Records Act, 44 U.S.C. 3101; the FACA, 5 U.S.C. chapter 10; and the Privacy Act of 1974, 5 U.S.C. 552a.

Principal Purposes: When you register to attend a DHS Data Privacy and Integrity Advisory Committee meeting, DHS collects your name, contact information, and the organization you represent, if any. DHS uses this information to contact you for purposes related to the meeting, such as to confirm your registration, to advise you of any changes to the meeting, or to assure that DHS has sufficient materials to distribute to all attendees. DHS may also use the information you provide for public record purposes such as posting publicly available transcripts and meeting minutes.

Routine Uses and Sharing: In general, DHS will not use the information you provide for any purpose other than the Principal Purposes above and will not share this information within or outside the agency. In certain circumstances, DHS may share this information on a case-by-case basis as required by law or as necessary for a specific purpose, as described in the DHS/ALL-002 Mailing and Other Lists System of Records Notice (November 25, 2008, 73 FR 71659).

Effects of Not Providing Information: You may choose not to provide the requested information or to provide only some of the information DHS requests. If you choose not to provide some or all of the requested information, DHS may not be able to contact you for purposes related to the meeting.

Accessing and Correcting Information: If you are unable to access or correct the information provided by using the method that you originally used to submit it, you may direct your request in writing to the DHS Deputy Chief FOIA Officer at foia@hq.dhs.gov. Additional instructions are available at http://www.dhs.gov/foia and in the DHS/ALL-002 Mailing and Other Lists System of Records referenced above.

Mason C. Clutter,
Chief Privacy Officer, Department of Homeland Security.

[FR Doc. 2023-21422 Filed 9-28-23; 8:45 am]

BILLING CODE P